NATIONAL SCIENCE FOUNDATION

Notice of Permit Emergency Provision Under the Antarctic Conservation Act of 1978 (Pub. L. 95-541)

AGENCY: National Science Foundation.

ACTION: Notice of permit emergency provision for hazardous waste stored in Antarctica at South Pole Station for more than 15 months due to an emergency, as specified by § 671.17.

SUMMARY: The Program of Environment Safety and Health (PESH) in the Division of Polar Programs (GEO/PLR), in accordance with § 671.17, is giving notice that an emergency relating to considerations of the safety of human life or of ships, aircraft or other equipment and facilities of high value, or the protection of the environment caused hazardous waste to be stored in at South Pole Station for more than 15 months.

Hazardous waste in the form of batteries, regulated medical waste, non-controlled medicines, laboratory chemical waste, contaminated laboratory glassware, gas cylinders, light bulbs and paint cans, with an aggregate of approximately 2000 lbs. net weight, was segregated and packaged for removal from the station.

The waste was to be removed in February 2013, at the end of 2012-2013 austral summer season. The unusual warming and melting of the ice runway at McMurdo Station resulted in reduced flight availability to the South Pole in late January and early February. Compatibility issues related to flying hazardous cargo and passengers further reduced the available flights to removing the hazardous waste material. During the final week of the season, the temperature conditions resulted in the formation of ground level contrails. The resulting hazy conditions and extremely low visibility prevented safe airplane loading operations. Potential damage to the airplane and/or harm to human life were the considerations which prevented the hazardous waste from leaving the station.

During the early part of the 2013-2104 austral summer season, the priority will be to remove the South Pole hazardous waste to McMurdo Station, where it will be removed from the continent.

FOR FURTHER INFORMATION CONTACT: Dr. Polly A. Penhale at (703) 292-7420.

Nadene G. Kennedy,
Division of Polar Programs.

[FR Doc. 2013-17964 Filed 7-25-13; 8:45 am]

BILLING CODE 7555-01-P